DEPARTMENT OF HOUSING AND URBAN DEVELOPMENT

[Docket No. FR-7066-N-12]

60-Day Notice of Proposed Information Collection: OneCPD Technical Assistance Needs Assessment Tool; OMB Control No.: 2506-0198

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 20, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Stephanie Stone, Director, Office of Technical Assistance Division, Department of Housing and Urban Development, 451 7th Street SW, Room 7218, Washington, DC 20410-5000; email me at stephanie.v.stone@hud.gov or telephone (202) 402-4121. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Stone.

SUPPLEMENTARY INFORMATION: This notice informs the public that HUD is seeking approval from OMB for the information collection described in Section A.

A. Overview of Information Collection

Title of Information Collection: OneCPD Technical Assistance Needs Assessment.

OMB Approval Number: 2506-0198.

Type of Request: Extension.

Form Number: N/A.

Description of the need for the information and proposed use: Application information is needed to determine competition winners, i.e., the technical assistance providers best able to develop efficient and effective programs and projects that increase the supply of affordable housing units prevent and reduce homelessness, improve data collection and reporting, and use coordinated neighborhood and community development strategies to revitalize and strengthen their communities.

Respondents: Grantees and subrecipient organizations receiving funding to operate and manage programs administered by various HUD program office.

Estimated Number of Respondents: 50.

Estimated Number of Responses: 50.

Frequency of Response: 1.

Average Hours per Response: 8.

Total Estimated Burdens: 400.

Information collection | Number of respondents | Frequency of response | Responses per annum | Burden hour per response | Annual burden hours | Hourly cost per response | Annual cost
Needs Assessment | 50 | 1 | 50 | 8 | 400 | 69.02 | $27,608.00
Note: Information provided for grantees participating in the assessment. Hourly rates based on March 2023 Department of Labor, Bureau of Labor Statistics, Employer Costs for Employee Compensation for state and local government workers by occupational and industry group, the median annual wage of $44.04 for Management, Professional, and Related, state, and local government workers. Fringe costs of 56.7% were added to all hourly rates so the actual rates used were $69.02. For DOL rates, visit https://www.bls.gov/news.release/pdf/ecec.pdf.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Marion M. McFadden,
Principal Deputy Assistant Secretary for Community Planning and Development.

[FR Doc. 2023-20317 Filed 9-19-23; 8:45 am]

BILLING CODE 4210-67-P